DEPARTMENT OF COMMERCE

National Oceanic and Atmospheric Administration

[RTID 0648-XC756]

North Pacific Fishery Management Council; Public Meeting

AGENCY: National Marine Fisheries Service (NMFS), National Oceanic and Atmospheric Administration (NOAA), Commerce.

ACTION: Notice of a hybrid meeting.

SUMMARY: The North Pacific Fishery Management Council (Council) Bering Sea Fishery Ecosystem Plan Local Knowledge, Traditional Knowledge, and Subsistence Taskforce (LKTKS) will be held March 2, 2023, through March 3, 2023.

DATES: The meeting will be held on Thursday, March 2, 2023 through Friday, March 3, 2023, from 8:30 a.m. to 4:30 p.m., Alaska Time.

ADDRESSES:

Meeting address: The meeting will be a hybrid meeting. The in-person component of the meeting will be held at the North Pacific Fishery Management Council, 1007 W 3rd Ave., Anchorage, AK 99501-2252 or join the meeting online through the links at https://meetings.npfmc.org/Meeting/Details/2977.

Council address: North Pacific Fishery Management Council, 1007 W 3rd Ave., Anchorage, AK 99501-2252; telephone: (907) 271-2809. Instructions for attending the meeting are given under SUPPLEMENTARY INFORMATION.

FOR FURTHER INFORMATION CONTACT: Kate Haapala Council staff; phone: (907) 271-2809 and email: kate.haapala@noaa.gov. For technical support, please contact our administrative staff; email: npfmc.admin@noaa.gov.

SUPPLEMENTARY INFORMATION:

Agenda

Thursday, March 2, 2023 Through Friday, March 3, 2023

The LKTKS Taskforce agenda will include: (a) summary of Taskforce work to-date; (b) changes to materials since December 2022; (c) review and finalize the LKTKS Protocol; (d) review and finalize LKTKS onramp recommendations; (e) review and finalize LKTKS Policy statement; (f) reflections and final recommendations; and (g) other business. The agenda is subject to change, and the latest version will be posted at https://meetings.npfmc.org/Meeting/Details/2977 prior to the meeting, along with meeting materials.

Connection Information

You can attend the meeting online using a computer, tablet, or smart phone; or by phone only. Connection information will be posted online at: https://meetings.npfmc.org/Meeting/Details/2977.

Public Comment

Public comment letters will be accepted and should be submitted electronically to https://meetings.npfmc.org/Meeting/Details/2977 by 5 p.m. Alaska time on Wednesday, March 1, 2023. An opportunity for oral public testimony will also be provided during the meeting.

Authority: 16 U.S.C. 1801 et seq.

Dated: February 6, 2023.
Rey Israel Marquez,
Acting Deputy Director, Office of Sustainable Fisheries, National Marine Fisheries Service.

[FR Doc. 2023-02786 Filed 2-8-23; 8:45 am]

BILLING CODE 3510-22-P